DEPARTMENT OF DEFENSE

Office of the Secretary

Renewal of Department of Defense Federal Advisory Committees

AGENCY: DoD.

ACTION: Renewal of Federal Advisory Committee.

SUMMARY: Under the provisions of 10 U.S.C. 1074g(c), the Federal Advisory Committee Act of 1972 (5 U.S.C. Appendix), the Government in the Sunshine Act of 1976 (5 U.S.C. 552b), and 41 CFR 102-3.50(a), the Department of Defense gives notice that it is renewing the charter for the Uniform Formulary Beneficiary Advisory Panel (hereafter referred to as “the Panel”).

The Panel is a non-discretionary federal advisory committee that shall provide the Secretary of Defense through the Under Secretary of Defense for Personnel and Readiness, the Assistant Secretary of Defense for Health Affairs, and the Director, TRICARE Management Activity, independent advice and recommendations on development of the uniform formulary. The Secretary of Defense shall consider the comments of the Panel before implementing the uniform formulary or implementing changes to the uniform formulary.

The Panel shall report to the Secretary of Defense through the Under Secretary of Defense for Personnel and Readiness, the Assistant Secretary of Defense for Health Affairs, and the Director, TRICARE Management Activity. The Under Secretary of Defense for Personnel and Readiness or designated representative, may act upon the Panel's advice and recommendations. The Panel, pursuant to 10 U.S.C. 1074g(c)(2), shall be comprised of no more than 15 members. The Panel shall include members that represent:

a. Non-governmental organizations and associations that represent the views and interests of a large number of eligible covered beneficiaries;

b. Contractors responsible for the TRICARE retail pharmacy program;

c. Contractors responsible for the national mail-order pharmacy program; and

d. TRICARE network providers.

Panel members, who are not full-time or permanent part-time Federal officers or employees, shall be appointed to serve as experts and consultants under the authority of 5 U.S.C. 3109 and shall serve as special government employees. All Panel members shall be appointed by the Secretary of Defense and their appointments shall be renewed on an annual basis.

The Panel membership shall select the Panel's Chairperson from the total membership. With the exception of travel and per diem for official Panel related travel, Panel members shall serve without compensation.

The Secretary of Defense may approve the appointment of Panel members for one to four year terms of service; however, no member, unless authorized by the Secretary of Defense, may serve more than two consecutive terms of service. This same term of service limitation also applies to any DoD authorized subcommittees.

Each Panel member is appointed to provide advice on behalf of the government on the basis of his or her best judgment without representing any particular point of view and in a manner that is free from conflict of interest.

The Department, when necessary, and consistent with the Panel's mission and DoD policies and procedures, may establish subcommittees to support the Panel. Establishment of subcommittees will be based upon a written determination, to include terms of reference, by the Secretary of Defense, the Deputy Secretary of Defense or the Panel's sponsor.

Such subcommittees shall not work independently of the chartered Panel, and shall report all their recommendations and advice to the Panel for full deliberation and discussion. Subcommittees have no authority to make decisions on behalf of the chartered Panel; nor can any subcommittee or its members update or report directly to the DoD or any Federal officers or employees.

All subcommittee members shall be appointed in the same manner as the Panel members; that is, the Secretary of Defense shall appoint subcommittee members even if the member in question is already a Panel member. Subcommittee members, with the approval of the Secretary of Defense, may serve a term of service on the subcommittee of one to four years.

Subcommittee members, if not full-time or part-time government employees, shall be appointed to serve as experts and consultants under the authority of 5 U.S.C. 3109, and shall serve as special government employees, whose appointments must be renewed by the Secretary of Defense on an annual basis. With the exception of travel and per diem for official Panel related travel, subcommittee members shall serve without compensation.

All subcommittees operate under the provisions of FACA, the Government in the Sunshine Act, governing Federal statutes and regulations, and governing DoD policies/procedures.

FOR FURTHER INFORMATION CONTACT: Jim Freeman, Advisory Committee Management Officer for the Department of Defense, 703-692-5952.

SUPPLEMENTARY INFORMATION: The Panel shall meet at the call of the Panel's Designated Federal Officer, in consultation with the Panel's Chairperson. The estimated number of Panel meetings is four per year.

In addition, the Designated Federal Officer is required to be in attendance at all Panel and subcommittee meetings for the entire duration of each and every meeting; however, in the absence of the Designated Federal Officer, a properly approved Alternate Designated Federal Officer shall attend the entire duration of the Panel or subcommittee meeting.

The Designated Federal Officer, or the Alternate Designated Federal Officer, shall call all of the Panel's and subcommittees' meetings; prepare and approve all meeting agendas; adjourn any meeting when the Designated Federal Officer, or the Alternate Designated Federal Officer, determines adjournment to be in the public interest or required by governing regulations or DoD policies/procedures; and chair meetings when directed to do so by the official to whom the Panel reports.

Pursuant to 41 CFR 102-3.105(j) and 102-3.140, the public or interested organizations may submit written statements to Uniform Formulary Beneficiary Advisory Panel membership about the Panel's mission and functions. Written statements may be submitted at any time or in response to the stated agenda of planned meeting of Uniform Formulary Beneficiary Advisory Panel.

All written statements shall be submitted to the Designated Federal Officer for the Uniform Formulary Beneficiary Advisory Panel, and this individual will ensure that the written statements are provided to the membership for their consideration. Contact information for the Uniform Formulary Beneficiary Advisory Panel's Designated Federal Officer can be obtained from the GSA's FACA Database— https://www.fido.gov/facadatabase/public.asp.

The Designated Federal Officer, pursuant to 41 CFR 102-3.150, will announce planned meetings of the Uniform Formulary Beneficiary Advisory Panel. The Designated Federal Officer, at that time, may provide additional guidance on the submission of written statements that are in response to the stated agenda for the planned meeting in question.

Dated: May 15, 2012.
Aaron Siegel,
Alternate OSD Federal Register Liaison Officer, Department of Defense.

[FR Doc. 2012-12145 Filed 5-18-12; 8:45 am]

BILLING CODE 5001-06-P